DEPARTMENT OF ENERGY

Federal Energy Regulatory Commission

[Project Nos. 11891-001, et al.]

Symbiotics, LLC, Berlin Dam Hydro, LLC, Lexington Hydro, LLC, Fern Ridge Hydro, LLC, Little Grass Valley Hydro, LLC, Lost Creek Hydro, LLC, Clear Lake Hydro, LLC, Chatfield Hydro, LLC, Elk City Hydro, LLC, Twitchell Hydro, LLC, Allen-Chivery Hydro, LLC, De Cordova Hydro, LLC, Eagle Mountain Hydro, LLC, Felsenthal Hydro, LLC, Nevada Creek Hydro, LLC, Hannibal Hydro, LLC; Notice of Surrender of Preliminary Permits

February 9, 2004.

Take notice that the permittees for the subject projects have requested to surrender their preliminary permits. Investigations and feasibility studies have shown that the projects would not be economically feasible.

Project No. | Project Name | Stream | State | Expiration Date
11891-001 | Hyrum Reservoir | Bear River | UT | 07-31-2004
11920-001 | Angostura Dam | Cheyenne River | SD | 07-31-2004
11926-001 | John Redmond Dam | Neosho River | KS | 06-30-2004
11927-001 | Kachess Dam | Kachess River | WA | 06-30-2004
11929-001 | Glen Elder | Solomon River | KS | 06-30-2004
11930-001 | Perry Dam | Delaware River | KS | 06-30-2004
11931-001 | Milford Dam | Republican River | KS | 06-30-2004
11946-001 | Unity Dam | Burnt River | OR | 06-30-2004
11948-001 | Agency Valley Dam | North Fork Malheur River | OR | 07-31-2004
11961-002 | Clearwater Dam | Black River | MO | 06-30-2004
11966-001 | Keyhole Dam | Belle Fourche River | WY | 06-30-2004
11979-001 | Wright Patman Dam | Sulphur River | TX | 08-31-2004
11980-001 | Belton Lake | Leon River | TX | 08-31-2004
11981-001 | Ferrells Bridge Dam | Cypress Creek | TX | 08-31-2004
11982-001 | Stillhouse Hollow Dam | Lampasas River | TX | 08-31-2004
11986-001 | Seven Oaks Dam | Santa Ana River | CA | 08-31-2004
12034-001 | Como Dam | Rock Creek | MT | 08-31-2004
12035-001 | Greys River | Greys River | WY | 08-31-2004
12038-001 | Lake Sherburne Dam | Swiftcurrent Creek | MT | 04-30-2005
12050-001 | Pine Creek | Pine Creek | WY | 08-31-2004
12059-001 | Tongue River | Tongue River | MT | 08-31-2004
12066-001 | Painted Rocks Dam | West Fork Bitterroot River | MT | 11-30-2004
12112-001 | Vanadium | Bear Creek | CO | 01-31-2005
12115-001 | Wilson | Bilk Creek | CO | 04-30-2005
12163-001 | Berlin Dam | Mahoning Creek | OH | 09-30-2005
12174-001 | Lexington | Los Gatos Creek | CA | 12-31-2005
12175-001 | Fern Ridge Dam | Long Tom River | OR | 09-30-2005
12177-001 | Little Grass Valley | Slate Creek | CA | 09-30-2005
12194-001 | Lost Creek | Lost Creek | UT | 12-31-2005
12196-001 | Clear Lake Dam | Lost River | CA | 10-31-2005
12199-001 | Chatfield Dam | South Platte River | CO | 09-30-2005
12202-001 | Elk City | Elk City Creek | KS | 12-31-2005
12210-001 | Twitchell Dam | Cuyama River | CA | 11-30-2005
12215-001 | Allen Chivery Dam | Bayou Bourbeaux | LA | 09-30-2005
12222-001 | De Cordova Dam | Brazoz River | TX | 10-31-2005
12224-001 | Eagle Mountain | West Fork Trinity River | TX | 01-31-2006
12225-001 | Felsenthal Lock and Dam | Owachita River | AR | 01-31-2006
12236-001 | Nevada Creek Dam | Nevada Creek | MT | 09-30-2005
12264-001 | Hannibal Lock and Dam | Ohio River | OH | 12-31-2005

The permits shall remain in effect through the thirtieth day after issuance of this notice unless that day is Saturday, Sunday, or holiday as described in 18 CFR 385.2007, in which case each permit shall remain in effect through the first business day following that day. New applications involving these project sites, to the extent provided for under 18 CFR part 4, may be filed on the next business day.

Magalie R. Salas,
Secretary.

[FR Doc. E4-273 Filed 2-13-04; 8:45 am]

BILLING CODE 6717-01-P